DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, call the HRSA Reports Clearance Officer on (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: Free Clinic Federal Tort Claims Act (FTCA) Deeming Application (OMB No. 0915-0293): Revision

Under 42 U.S.C. 233(o), and HRSA BPHC PIN 2004-24, the FTCA Free Clinic Program requires requesting free clinics to submit annual, renewal, and supplemental applications for the process of deeming qualified volunteer health care clinicians for FTCA malpractice insurance coverage. It is proposed that the FTCA application forms attached to the current PIN 2004-24 will be modified in several ways. These modifications include adding or clarifying the requirement to include the following information or data: (1) The annual number of the free clinic's patient visits which are covered by the FTCA malpractice coverage, (2) a list of any restrictions, suspensions, or disciplinary actions related to the medical licenses of the relevant volunteer health care clinicians, (3) clarifying the requirement to include a copy of the clinic's IRS 501(c)(3) documentation, (4) clarifying the need to detail any medical malpractice claims filed against any of the relevant volunteer health care clinicians or against the clinic for at least the last 10 years, and (5) a clarification of the need to file future annual renewal applications by August 1. It is anticipated that these modifications will add only incrementally to the time and effort required by the current OMB approved FTCA application forms.

The estimated annual burden is as follows:

Form | Number of respondents | Responses per respondent | Total responses | Hours per response | Total burden hours
Free Clinic FTCA Application | 150 | 1 | 150 | 16 | 2,400
Total | 150 |  | 150 |  | 2,400

Send comments to Susan G. Queen, Ph.D., HRSA Reports Clearance Officer, Room 10-33, Parklawn Building, 5600 Fishers Lane, Rockville, MD 20857. Written comments should be received within 60 days of this notice.

Dated: August 29, 2007.
Alexandra Huttinger,
Acting Director, Division of Policy Review and Coordination.

[FR Doc. E7-17577 Filed 9-5-07; 8:45 am]

BILLING CODE 4165-15-P